SMALL BUSINESS ADMINISTRATION

[Disaster Declaration #13924 and #13925]

Washington Disaster Number WA-00039

AGENCY: U.S. Small Business Administration.

ACTION: Amendment 1.

SUMMARY: This is an amendment of the Presidential declaration of a major disaster for the State of Washington (FEMA—4168—DR), dated 04/02/2014.

Incident: Flooding and mudslides.

Incident Period: 03/22/2014 through 04/28/2014.

Effective Date: 04/28/2014.

Physical Loan Application Deadline Date: 06/02/2014.

EIDL Loan Application Deadline Date: 01/02/2015.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of Washington, dated 04/02/2014 is hereby amended to establish the incident period for this disaster as beginning 03/22/2014 and continuing through 04/28/2014.

All other information in the original declaration remains unchanged.

(Catalog of Federal Domestic Assistance Numbers 59002 and 59008)

James E. Rivera,
Associate Administrator for Disaster Assistance.

[FR Doc. 2014-10551 Filed 5-7-14; 8:45 am]

BILLING CODE 8025-01-P